DEPARTMENT OF ENERGY

Federal Energy Regulatory Commission

[Docket No. AD16-2-000]

Review of Cost Submittals by Other Federal Agencies for Administering Part I of the Federal Power Act; Notice of Postponing Technical Conference

In a prior notice, the Commission scheduled a technical conference to review the submitted Other Federal Agency costs in the above-captioned docket. Due to the impact of the Nuclear Security Summit on March 31, 2016 the conference is postponed to April 7, 2016.

The technical conference will be held on April 7, 2016, in Conference Room 3M-1 at the Commission's headquarters, 888 First Street NE., Washington, DC. The technical conference will begin at 2:00 p.m. (EST).

Dated: March 29, 2016.
Nathaniel J. Davis, Sr.,
Deputy Secretary.

[FR Doc. 2016-07539 Filed 4-1-16; 8:45 am]

BILLING CODE 6717-01-P